SOCIAL SECURITY ADMINISTRATION

[Docket No. SSA 2010-0016]

Privacy Act of 1974, as Amended; Computer Matching Program (SSA/Office of Personnel Management (OPM)—Match Numbers 1005, 1019, 1020, and 1021

AGENCY: Social Security Administration (SSA).

ACTION: Notice of a renewal of an existing computer matching program that is scheduled to expire on October 6, 2010.

SUMMARY: In accordance with the provisions of the Privacy Act, as amended, this notice announces a renewal of an existing computer matching program that we are currently conducting with OPM.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 966-0869 or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Jonathan R. Cantor,
Chair, Executive Director, Office of Privacy and Disclosure, Office of the General Counsel.

Notice of Computer Matching Program, SSA With the Office of Personnel Management (OPM)

A. Participating Agencies

SSA and OPM.

B. Purpose of the Matching Program

The purpose of this matching program is to set forth the conditions, terms, and safeguards under which OPM will disclose civil service benefit and payment data to us. We are legally required to offset specific benefits by a percentage of civil service benefits received (Spousal and Survivors benefits, Supplemental Security Income (SSI) benefits, and Disability Insurance Benefits are offset by a percentage of the recipient's own Federal government pension benefits). The Old-Age, Survivors, Disability Insurance (OASDI), SSI, and Special Veterans' Benefits (SVB) programs administered by us will use the match results under this agreement to meet its civil service benefit offset obligations. The OASDI programs are social insurance programs. The SSI program pays benefits to aged, blind, and disabled recipients with incomes below levels established by law and regulations. The SVB program provides special benefits to certain World War II veterans. Specific information regarding the matching programs to be conducted because of the disclosure is provided in the appendices.

C. Authority for Conducting the Matching Program

The legal authority for SSA to conduct this matching activity for SSI purposes is contained in section 1631(e)(1)(B) and (f) of the Social Security Act (Act) (42 U.S.C. 1383(e)(1)(B) and (f)) and for the SVB purposes is contained in section 806 of the Act (42 U.S.C. 1006). Section 224 of the Act (42 U.S.C. 424a) provides for the reduction of Social Security disability benefits when the disabled worker is also entitled to a Public Disability Benefit. Sections 215(a)(7) and 215(d)(3) of the Act (42 U.S.C. 415(a)(7) and 415(d)(3)) provide for a modified benefit computation to be used for certain beneficiaries who are concurrently entitled to both Social Security benefits and a monthly periodic payment based in whole or in part on employment not covered by Social Security, including a civil service benefit. This modified benefit computation is called the Windfall Elimination Provision. Section 202(k)(5)(A) of the Act (42 U.S.C. 402 (k)(5)(A)) requires that SSA reduce the Social Security benefits of certain beneficiaries entitled to Social Security spouse's benefits who are also entitled to a government pension based on their own noncovered earnings. This reduction is referred to as Government Pension Offset.

Section 1631(f) of the Act requires Federal agencies to furnish SSA with information necessary to verify eligibility, and section 224(h)(1) of the Act requires any Federal agency to provide SSA with information in its possession that SSA may require for the purposes of making a timely determination of the amount of reduction under section 224 of the Act.

D. Categories of Records and Persons Covered by the Matching Program

OPM will provide SSA with an electronic file containing civil service benefit and payment data from the annuity and survivor master file. The Federal Register designation for the OPM file is OPM/Central-1 Civil Service Retirement and Insurance Records. Pursuant to 5 U.S.C. 552a(b)(3), OPM established routine uses to disclose the subject information to SSA.

Each record on the OPM file will be matched for Social Security Number (SSN) verification to SSA's Master Files of SSN Holders and SSN Applications. The Federal Register designation for the SSA file is Master Files of SSN Holders and SSN Applications, SSA/OSR, 60-0058. Those records verified will then be matched to SSA's SSI and SVB payment information maintained in the SSR and SVB. The Federal Register designation for the SSA file is SSR and SVB, SSA/OSR, 60-0103.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 2010-22000 Filed 9-2-10; 8:45 am]

BILLING CODE 4191-02-P